DEPARTMENT OF COMMERCE

International Trade Administration

[C-570-048, C-580-888]

Countervailing Duty Investigations of Certain Carbon and Alloy Steel Cut-to-Length Plate From the People's Republic of China and the Republic of Korea: Postponement of Preliminary Determinations

AGENCY: Enforcement and Compliance, International Trade Administration, Department of Commerce.

DATES: Effective Date: June 17, 2016.

FOR FURTHER INFORMATION CONTACT: Robert Palmer at (202) 482-9068 (the People's Republic of China) or John Corrigan at (202) 482-7438 (Republic of Korea), AD/CVD Operations, Office VI, Enforcement and Compliance, International Trade Administration, U.S. Department of Commerce, 14th Street and Constitution Avenue NW., Washington, DC 20230.

SUPPLEMENTARY INFORMATION:

Background

On April 28, 2015, the Department of Commerce (the Department) initiated countervailing duty (CVD) investigations of imports of certain carbon and alloy steel cut-to-length plate (CTL plate) from Brazil, the People's Republic of China (PRC), and the Republic of Korea (Korea).¹ The notice of initiation stated that, in accordance with section 703(b)(l) of the Act and 19 CFR 351.205(b)(1), we would issue our preliminary determinations no later than 65 days after the date of initiation, unless postponed. Currently, the preliminary determinations in these investigations are due no later than July 5, 2016.²

¹ See Carbon and Alloy Steel Cut-to-Length Plate from Brazil, the People's Republic of China, and the Republic of Korea: Initiation of Countervailing Duty Investigations, 81 FR 27098 (May 5, 2016). This notice of postponement of preliminary determinations applies to the PRC and Korea only, as the International Trade Commission terminated the investigation of allegedly subsidized imports of certain carbon and alloy steel cut-to-length plate from Brazil, pursuant to section 703(a)(1) of the Tariff Act of 1930, as amended (the Act). See Certain Carbon and Alloy Steel Cut-To-Length Plate From Austria, Belgium, Brazil, China, France, Germany, Italy, Japan, Korea, South Africa, Taiwan, and Turkey; Determinations, 81 FR 33705 (May 27, 2016).

² See Initiation Notice, 81 FR at 27101. We note that the current deadline for the preliminary determinations is July 2, 2016, which is a Saturday. Pursuant to Department practice, the signature date would be the next business day, which is Tuesday, July 5, 2016. See Notice of Clarification: Application of “Next Business Day” Rule for Administrative Determination Deadlines Pursuant to the Tariff Act of 1930, As Amended, 70 FR 24533 (May 10, 2005).

Postponement of Preliminary Determinations

Section 703(c)(1)(B) of the Act permits the Department to postpone the time limit for the preliminary determination if it concludes that the parties concerned are cooperating and determines that the case is extraordinarily complicated by reason of the number and complexity of the transactions to be investigated or adjustments to be considered, the novelty of the issues presented, the need to determine the extent to which particular countervailable subsidies are used by individual companies, or the number of firms whose activities must be investigated, and additional time is necessary to make the preliminary determination. Under this section of the Act, the Department may postpone the preliminary determination until no later than 130 days after the date on which the Department initiated the investigation.

The Department determines that the parties involved in these CTL plate CVD investigations are currently cooperating and that the investigations are extraordinarily complicated, such that we will need more time to make the preliminary determinations. Specifically, the Department finds that these investigations are both extraordinarily complicated by reason of the number and complexity of the alleged countervailable subsidy practices, and the need to determine the extent to which particular countervailable subsidies are used by individual manufacturers, producers, and exporters.

Therefore, in accordance with section 703(c)(l)(B) of the Act and 19 CFR 351.205(f)(l), the Department is postponing the time period for the preliminary determinations of these investigations by 65 days, to September 6, 2016.³ Pursuant to section 705(a)(1) of the Act and 19 CFR 351.210(b)(1), the deadline for the final determinations will continue to be 75 days after the date of the preliminary determinations.

³ Id. The deadline for the postponed preliminary determination would be September 5, 2016, i.e. not later than 130 days after the date of initiation. September 5, 2016 is Labor Day. Pursuant to Department practice, the signature date will be the next business day, which is Tuesday, September 6, 2016.

This notice is issued and published pursuant to section 703(c)(2) of the Act and 19 CFR 351.205(f)(l).

Dated: June 10, 2016.
Paul Piquado,
Assistant Secretary for Enforcement and Compliance.

[FR Doc. 2016-14302 Filed 6-16-16; 8:45 am]

BILLING CODE 3510-DS-P